OFFICE OF MANAGEMENT AND BUDGET

Standards for Maintaining, Collecting, and Presenting Federal Data on Race and Ethnicity

AGENCY: Executive Office of the President, Office of Management and Budget (OMB).

ACTION: Review and Possible Limited Revision of OMB's Statistical Policy Directive on Standards for Maintaining, Collecting, and Presenting Federal Data on Race and Ethnicity.

SUMMARY: The Standards for Maintaining, Collecting, and Presenting Federal Data on Race and Ethnicity were last revised in 1997 (62 FR 58782, Oct. 30, 1997; see https://www.whitehouse.gov/omb/fedreg_1997standards). Since these revisions were implemented, much has been learned about how these standards have improved the quality of Federal information collected and presented on race and ethnicity. At the same time, some areas may benefit from further refinement. Accordingly, OMB currently is undertaking a review of particular components of the 1997 standard: The use of separate questions measuring race and ethnicity and question phrasing; the classification of a Middle Eastern and North African group and reporting category; the description of the intended use of minimum reporting categories; and terminology used for race and ethnicity classifications. OMB's current review of the standard is limited to these areas. Specific questions appear under the section, “Issues for Comment.”

DATES: Comments on the review and possible limited revisions to OMB's Standards for Maintaining, Collecting, and Presenting Federal Data on Race and Ethnicity detailed in this notice must be in writing. To ensure consideration of comments, they must be received no later than [30 days from the publication of this notice]. Please be aware of delays in mail processing at Federal facilities due to increased security. Respondents are encouraged to send comments electronically via email, or http://www.regulations.gov (discussed in ADDRESSES below).

ADDRESSES: Written comments on these issues may be addressed to Katherine K. Wallman, Chief Statistician, Office of Management and Budget, 1800 G St., 9th Floor, Washington, DC 20503. You may also send comments or questions via Email to Race-ethnicity@omb.eop.gov or to http://www.regulations.gov—a Federal E-Government Web site that allows the public to find, review, and submit comments on documents that agencies have published in the Federal Register and that are open for comment. Simply type, “Race-ethnicity” (in quotes) in the Comment or Submission search box, click Go, and follow the instructions for submitting comments.

Comments submitted in response to this notice may be made available to the public through relevant Web sites. For this reason, please do not include in your comments information of a confidential nature, such as sensitive personal information or proprietary information. If you send an email comment, your email address will be automatically captured and included as part of the comment that is placed in the public docket. Please note that responses to this public comment request containing any routine notice about the confidentiality of the communication will be treated as public comments that may be made available to the public notwithstanding the inclusion of the routine notice.

Electronic Availability: This document is available on the Internet on the OMB Web site at: https://www.whitehouse.gov/sites/default/files/omb/inforeg/directive15/race-ethnicity_directive_2016FRN1.pdf.

FOR FURTHER INFORMATION CONTACT: Jennifer Park, Senior Statisitician, 1800 G St., 9th Floor, Washington, DC 20503, Email address: Race-ethnicity@omb.eop.gov, telephone number: (202) 395-9046.

SUPPLEMENTARY INFORMATION:

Background: Development work on the standards for classification of Federal data on race and ethnicity originated in the activities of the Federal Interagency Committee on Education (FICE), which was originally established by Executive Order 11185 in 1964. The FICE Subcommittee on Minority Education completed a report in April 1973 on higher education for Chicanos, Puerto Ricans, and American Indians, which noted in particular the lack of comparable data on racial and ethnic groups. Accordingly, the report called for the coordinated development of common definitions for racial and ethnic groups, and the Federal collection of racial and ethnic enrollment and other educational data on a compatible and nonduplicative basis.

In June 1974, FICE created an Ad Hoc Committee on Racial and Ethnic Definitions whose 25 members came from Federal agencies with major responsibilities for the collection or use of racial and ethnic data. It took on the task of determining and describing the major groups to be identified by Federal agencies when collecting and reporting racial and ethnic data. The Ad Hoc Committee wanted to ensure that whatever categories the various agencies used could be aggregated, disaggregated, or otherwise combined so that the data developed by one agency could be used in conjunction with the data developed by another agency. In addition, the Ad Hoc Committee recommended that the categories could be subdivided into more detailed ethnic groups to meet users' needs, but that to maintain comparability, such detail data should aggregate into the minimum racial and ethnic categories.

Following testing of proposed categories, and the receipt of comments and incorporation of suggested modifications, OMB on May 12, 1977, promulgated for use by all Federal agencies minimum standard categories for the collection and presentation of data on race and ethnicity. (See 42 FR 1926 May 12, 1977.) (Although OMB required the agencies to use these racial and ethnic categories at a minimum, it should be emphasized that the standard permited collection of additional detail if the more detailed categories could be aggregated into the minimum racial and ethnic categories to allow comparability of data.)

In 1994, OMB published a notice of proposed review and possible revision of the standard. (See https://www.whitehouse.gov/omb/fedreg_notice_15.) It requested comments on the adequacy of then current categories. Specifically, it asked for comments on the addition of a “multiracial” category; the addition of an “Other Race” category; use of an open-ended question to solicit information on race and ethnicity; the names of the “Black” category and the “American Indian or Alaska Native” category; including “Native Hawaiians” as a separate reporting category from the “Asian or Pacific Islander” category; adding Hispanic as a racial designation rather than ethnicity; and adding an “Arab or Middle Eastern” category as an ethnicity. OMB established an Interagency Committee for the Review of the Racial and Ethnic Standards, whose members represented the many and diverse Federal needs for racial and ethnic data, including statutory requirements for such data.

In 1997, OMB published the recommendations of the Interagency Committee in its notice of decision. (See https://www.whitehouse.gov/omb/fedreg_1997standards.) Drawing from stakeholder input, Interagency Committee statistical analysis, and public comment, the standard was revised in several ways. It required separate measures of race and ethnicity, with the “Hispanic or Latino” ethnicity presented first. Respondents were offered the option of selecting one or more racial designations, with the use of the instructions “Mark one or more” and “Select one or more.” “AfricanAmerican” was added to the category of “Black.” “Native Hawaiian or Other Pacific Islander” was created as a separate category from “Asian or Pacific Islander.” However, agreement could not be reached regarding the composition of an “Arab/Middle Eastern” category, and no classification or category was therefore defined.

Current Review: Since the 1997 revision, the U.S. population has continued to become more racially and ethnically diverse. Additionally, much has been learned about the implementation of these standards since they were issued approximately two decades ago. In accordance with good statistical practice, several Federal agencies have conducted methodological research to better understand how use of the revised standard informs the quality of Federal statistics on race and ethnicity.

In 2014, OMB formed an Interagency Working Group for Research on Race and Ethnicity to exchange research findings, identify implementation issues, and collaborate on a shared research agenda to improve Federal data on race and ethnicity. The Working Group comprises representatives from ten cabinet departments and three other agencies engaged in the collection or use of Federal race and ethnicity data.

Through its systematic review of the implemention of the 1997 revision and stakeholder feedback, the Working Group identified four particular areas where further revisions to the standard might improve the quality of race and ethnicity information collected and presented by Federal agencies. Specifically, these four areas include:

1. The use of separate questions versus a combined question to measure race and ethnicity and question phrasing;

2. the classification of a Middle Eastern and North African group and distinct reporting category;

3. the description of the intended use of minimum reporting categories; and

4. the salience of terminology used for race and ethnicity classifications and other language in the standard.

Issues for Comment: With this Notice, OMB is seeking comments from the public on: (1) The adequacy of the current standard in the areas identified for focused review (see detailed descriptions below); (2) specific suggestions for the identified areas that have been offered; and (3) principles that should govern any proposed revisions to the standards in the identified areas.

Question Format & Nonresponse: Although many respondents report within the race and ethnicity categories specified by the standard, recent censuses, surveys, and experimental tests have shown that its implementation is not well understood and/or is considered inadequate by some respondents. This results in respondents' inability and/or unwillingness to self-identify as the standard intends.

For a growing segment of respondents, this situation arises because of the conceptual complexity that is rooted in the standard's definitional distinction of race from ethnicity. Nearly half of Hispanic or Latino respondents do not identify within any of the standard's race categories (Rios et al. 2014; see https://www.census.gov/population/www/documentation/twps0102/twps0102.pdf). With the projected steady growth of the Hispanic or Latino population, the number of people who do not identify with any of the standard's race categories is expected to increase (Compton et al. 2012; see https://www.census.gov/2010census/pdf/2010_Census_Race_HO_AQE.pdf; Rios et al. 2014). Additionally, although the reporting of multiple races is permitted according to the current standard, reporting multiple Hispanic origins or a mixed Hispanic/non-Hispanic heritage in the current Hispanic ethnicity question is not permitted. (Please note: The terms `Hispanic or Latino” and “Hispanic” are used interchangeably in this Notice.)

To explore this issue further, the U.S. Census Bureau conducted the 2010 Census Race and Hispanic Origin Alternative Questionnaire Experiment (AQE). Among its most notable findings was that a combined question design (rather than the current standard of separate questions) yielded a substantially increased use of OMB standard categories among Hispanic or Latino respondents, signaling that a combined question approach may better reflect how Hispanic or Latino respondents view themselves (see https://www.census.gov/2010census/pdf/2010_Census_Race_HO_AQE.pdf). Qualitative aspects of this research further supported this interpretation. The Federal Interagency Working Group for Research on Race and Ethnicity continues to examine this proposal. If a combined measure were to be used outside of a limited, methodological experiment, it would be necessary for OMB to revise the current standard.

Middle Eastern or North African: According to the current standard, the aggregate reporting category of “White” race includes people having origins in any of the original peoples of Europe, the Middle East, or North Africa. During the periodic review preceding the 1997 revision, OMB's Interagency Committee for the Review of the Racial and Ethnic Standards considered suggestions to require an additional, distinct minimum reporting category for respondents identifying as “Arabs or Middle Easterners.” At the conclusion of the review, agreement could not be reached among public stakeholders on the intended measurement concept (i.e., whether the category should be based on language, geography, etc.) nor, accordingly, a definition for this category. The Committee took this public disagreement into consideration and thus did not issue a definition nor an additional, minimum reporting category for this group. Instead, OMB encouraged further research be done to determine the best way to improve data for “Arabs/Middle Easterners.” The Federal Interagency Working Group for Research on Race and Ethnicity continues to examine this proposal, with input from multiple stakeholders. If consensus upon a definition for Middle Eastern or North African can be reached, with or without the requirement of an additional, separate, aggregate reporting category, OMB would need to revise the current standard to clarify the classification instructions. This would address potential inconsistencies across data collections where data describing a Middle Eastern or North African group could be reported separately for detailed analyses (for example, where sample size permits), but otherwise could be aggregated into the “White” reporting category to facilitate comparability across information collections that would not have large enough samples to permit separate, detailed reporting.

Intent of Minimum Categories: The standard provides a minimum set of racial and ethnic categories for use when Federal agencies are collecting and presenting such information for statistical, administrative, or compliance purposes. However, it does not preclude the collection and presentation of additional detailed categories for statistical, administrative, or compliance purposes, provided that the additional detailed categories can be aggregated into the minimum set to permit comparisons. Specifically, the current standard advises, “In no case shall the provisions of the standards be construed to limit the collection of data to the categories described above. The collection of greater detail isencouraged . . .”

There are numerous examples of Federal agencies collecting detailed race and ethnicity data in their statistical reporting; these are not limited to decennial censuses or extremely large surveys, such as the American Community Survey (ACS). Nonetheless, OMB has learned that the minimum reporting categories as described in the current standard are often misinterpreted as the only permissible reporting categories. Accordingly, OMB has asked the Federal Interagency Working Group for Research on Race and Ethnicity to examine the language in the current standard in order to improve the understanding of the intended use of minimum categories, that is, to facilitate comparison across information collections, rather than to limit detailed race and ethnic group information collection and presentation.

Terminology: As the diversity of the U.S. continues to increase, it becomes more important for people to understand the racial and ethnic terminology included in Federal data collection systems. The language used to describe race and ethnicity changes over time, and while some terminology continues to resonate with group members, other expressions may fall out of favor or take on other meanings.

For example, the standard currently designates “Black or African American” as the “principal minority race.” This designation provides an option, in certain circumstances, for presentation of the “White” category, the “Black or African American” category (as the `principal minority race') and the “All Other Races” category, without the requirement of also presenting other minimum reporting categories. The designation may warrant revision for several reasons. First, certain definitions of “minority” as including Hispanic (i.e., HR 4238; see https://www.congress.gov/bill/114th-congress/house-bill/4238), and the relative prevalence of the Hispanic or Latino population compared with the Black or African American population, suggest potential revision of the “principal minority race” designation, or the use of alternative terms (e.g., “principal minority race/ethnicity”). Perhaps most broadly, the utility of presenting a category of “All Other Races,” given the diversity of experience among other race/ethnicity groups, and the salience of designating a “principal minority” for presentation purposes, suggests further review. The Federal Interagency Working Group for Research on Race and Ethnicity is examining such terminology for possible revision to the standard.

Guidance for Review:

Federal Uses of Race and Ethnicity Data: When providing comment regarding proposed areas for possible revision, it may be helpful to keep in mind how the standard is used. The standard not only guides information collected and presented from the decennial census and numerous other statistical collections, but also is used by Federal agencies for civil rights enforcement and for program administrative reporting. These include, among others:

• Enforcing the requirements of the Voting Rights Act;

• reviewing State congressional redistricting plans;

• collecting and presenting population and population characteristics data, labor force data, education data, and vital and health statistics;

• establishing and evaluating Federal affirmative action plans and evaluating affirmative action and discrimination in employment in the private sector;

• monitoring the access of minorities to home mortgage loans under the Home Mortgage Disclosure Act;

• enforcing the Equal Credit Opportunity Act;

• monitoring and enforcing desegregation plans in the public schools;

• assisting minority businesses under the minority business development programs; and

• monitoring and enforcing the Fair Housing Act.

To most effectively promote information quality, the intended uses of data on race and ethnicity should be considered when changes to the standards are contemplated. Additionally, the possible effects of any proposed changes on the quality and utility of the resulting data must be considered.

General Principles for the Review of the Racial and Ethnic Data Categories: When providing comment on particular areas of the current standard, it also may be helpful to consult the principles that framed the 1977 and 1997 revisions. Comments on these principles are welcomed.

1. The racial and ethnic categories set forth in the standard should not be interpreted as being scientific or anthropological in nature.

2. Respect for individual dignity should guide the processes and methods for collecting data on race and ethnicity; respondent self-identification should be facilitated to the greatest extent possible.

3. To the extent practicable, the concepts and terminology should reflect clear and generally understood definitions that can achieve broad public acceptance.

4. The racial and ethnic categories should be comprehensive in coverage and produce compatible, nonduplicated, exchangeable data across Federal agencies.

5. Foremost consideration should be given to data aggregations by race and ethnicity that are useful for statistical analysis, program administration and assessment, and enforcement of existing laws and judicial decisions, bearing in mind that the standards are not intended to be used to establish eligibility for participation in any Federal program.

6. While Federal data needs for racial and ethnic data are of primary importance, consideration should also be given to needs at the State and local government levels, including American Indian tribal and Alaska Native village governments, as well as to general societal needs for these data.

7. The categories should set forth a minimum standard; additional categories should be permitted provided they can be aggregated to the standard categories. The number of standard categories should be kept to a manageable size, as determined by statistical concerns and data needs.

8. A revised set of categories should be operationally feasible in terms of burden placed upon respondents and the cost to agencies and respondents to implement the revisions.

9. Any changes in the categories should be based on sound methodological research and should include evaluations of the impact of any changes not only on the usefulness of the resulting data but also on the comparability of any new categories with the existing ones.

10. Any revision to the categories should provide for a crosswalk at the time of adoption between the old and the new categories so that historical data series can be statistically adjusted and comparisons can be made.

11. Because of the many and varied needs and strong interdependence of Federal agencies for racial and ethnic data, any changes to the existing categories should be the product of an interagency collaborative effort.

OMB recognizes that these principles may in some cases represent competing goals for the standard. Through the review process, it will be necessary to balance statistical issues, needs for data, and social concerns. The application of these principles to guide the review and possible revision of the standard ultimately should result in consistent, publicly accepted data on race and ethnicity that will meet the needs of the government and the public while recognizing the diversity of the population and respecting the individual's dignity.

Howard A. Shelanski,
Administrator, Office of Information and Regulatory Affairs.

[FR Doc. 2016-23672 Filed 9-29-16; 8:45 am]

BILLING CODE 3110-01-P